ENVIRONMENTAL PROTECTION AGENCY

40 CFR Part 260, 261, 262, 263, 264, 265, 267, 271 and 761

[EPA-HQ-OLEM-2021-0609; FRL-7308-03-OLEM]

Integrating e-Manifest With Hazardous Waste Exports and Other Manifest-Related Reports, PCB Amendments and Technical Corrections; Extension of Comment Period

AGENCY: Environmental Protection Agency (EPA).

ACTION: Proposed rule; extension of comment period.

SUMMARY: The Environmental Protection Agency (EPA) is extending the comment period for the proposed rule entitled “Integrating e-Manifest with Hazardous Waste Exports and Other Manifest-related Reports, PCB Amendments and Technical Corrections.” EPA published the proposed rule in the Federal Register on April 1, 2022 (87 FR 19290), and the public comment period was scheduled to end on May 31, 2022. However, EPA has received at least one request for additional time to develop and submit comments on the proposal. In response to the request for additional time, EPA is extending the comment period for an additional 61 days, through August 1, 2022.

DATES: Comments must be received on or before August 1, 2022.

ADDRESSES: You may send comments, identified by Docket ID No. EPA-HQ-OLEM-2021-0609, by any of the following methods:

• Federal eRulemaking Portal: https://www.regulations.gov (our preferred method). Follow the online instructions for submitting comments. Do not submit electronically any information you consider to be Confidential Business Information or other information whose disclosure is restricted by statute.

• Mail: U.S. Environmental Protection Agency, EPA Docket Center, OLEM Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. For detailed instructions on sending comments and additional information on the rulemaking process, see the “Public Participation” heading of the SUPPLEMENTARY INFORMATION section of this document. Out of an abundance of caution for members of the public and our staff, the EPA Docket Center and Reading Room are open to the public by appointment only to reduce the risk of transmitting COVID-19. Our Docket Center staff also continues to provide remote customer service via email, phone, and webform. Hand deliveries and couriers may be received by scheduled appointment only. For further information on EPA Docket Center services and the current status, please visit us online at https://www.epa.gov/dockets.

FOR FURTHER INFORMATION CONTACT: For further information on this document, contact Bryan Groce, Program Implementation and Information Division, Office of Resource Conservation and Recovery, (202) 566-0339; email address: groce.bryan@epa.gov.

SUPPLEMENTARY INFORMATION:

I. Summary

On April 1, 2022 (87 FR 19290), EPA published in the Federal Register a proposal to amend certain aspects of the hazardous waste manifest regulations under the Resource Conservation and Recovery Act (RCRA), specifically concerning the e-Manifest system to: (1) Incorporate hazardous waste export manifests into the e-Manifest system; (2) expand the required international shipment data elements on the manifest form; (3) revise aspects of the manifest form to improve compliance with import and export consents and tracking requirements and to allow for greater precision in waste data reported on the manifest; (4) incorporate three manifest-related reports (i.e., discrepancy, exception, and unmanifested waste reports); (5) provide discussion regarding potential future integration of the e-Manifest system with Biennial Reporting requirements; (6) make conforming changes to the polychlorinated biphenyl (PCB) manifest regulations under the Toxic Substances Control Act (TSCA); and (6) make other technical corrections to remove obsolete requirements, correct typographical errors, establish definitions, and/or improve alignment with the e-Manifest program.

The comment period for the proposed rule was scheduled to end on May 31, 2022. Since publication, EPA has received at least one request to extend that comment period to allow for additional time to develop comments on the proposed rule. After considering this request for additional time, EPA has decided to extend the comment period for an additional 61 days, through August 1, 2022.

II. Public Participation

Submit your comments, identified by Docket ID No. EPA-HQ-OLEM-2021-0609, at https://www.regulations.gov (our preferred method), or the other methods identified in the ADDRESSES section. Once submitted, comments cannot be edited or removed from the docket. The EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

List of Subjects

40 CFR Part 260

Environmental protection, Exports, Hazardous materials transportation, Hazardous waste, Imports, Labeling, Packaging and containers, Reporting and recordkeeping requirements.

40 CFR Part 261

Environmental Protection, Hazardous waste, Recycling, Reporting and recordkeeping requirements.

40 CFR Part 262

Environmental protection, Electronic reporting requirements, Exports, Hazardous materials transportation, Hazardous waste, Imports, Labeling, Packaging and containers, Reporting and recordkeeping requirements.

40 CFR Part 263

Environmental protection, Electronic reporting requirements, Exports, Hazardous materials transportation, Hazardous waste, Imports.

40 CFR Part 264

Environmental protection, Electronic reporting requirements, Hazardous waste, Imports, Packaging and containers, Reporting and recordkeeping requirements, Security measures.

40 CFR Part 265

Environmental protection, Electronic reporting requirements, Hazardous waste, Imports, Packaging and containers, Reporting and recordkeeping requirements.

40 CFR Part 267

Standards for Owners and Operators of Hazardous Waste Facilities Operating Under a Standardized Permit.

40 CFR Part 271

Environmental protection, Administrative practice and procedure, Confidential business information, Electronic reporting requirements, Hazardous materials transportation, Hazardous waste, Reporting and recordkeeping requirements.

40 CFR Part 761

Environmental protection, Manifest, Polychlorinated biphenyls.

Dated: May 18, 2022.
Carolyn Hoskinson,
Director, Office of Resource Conservation and Recovery.

[FR Doc. 2022-11081 Filed 5-23-22; 8:45 am]

BILLING CODE 6560-50-P